COMMITTEE FOR PURCHASE FROM PEOPLE WHO ARE BLIND OR SEVERELY DISABLED

Procurement List Proposed Additions and Deletions

AGENCY: Committee for Purchase from People Who Are Blind or Severely Disabled.

ACTION: Proposed additions to and deletions from Procurement List.

SUMMARY: The Committee is proposing to add to the Procurement List services to be furnished by nonprofit agencies employing persons who are blind or have other severe disabilities, and to delete services previously furnished by such agencies.

Comments Must be Received on or Before: April 23, 2006.

ADDRESSES: Committee for Purchase From People Who Are Blind or Severely Disabled, Jefferson Plaza 2, Suite 10800, 1421 Jefferson Davis Highway, Arlington, Virginia, 22202-3259.

FOR FURTHER INFORMATION CONTACT: For Further Information or to Submit Comments Contact: Sheryl D. Kennerly, Telephone: (703) 603-7740, Fax: (703) 603-0655, or e-mail SKennerly@jwod.gov.

SUPPLEMENTARY INFORMATION: This notice is published pursuant to 41 U.S.C. 47(a)(2) and 41 CFR 51-2.3. Its purpose is to provide interested persons an opportunity to submit comments on the proposed actions.

Additions

If the Committee approves the proposed additions, the entities of the Federal Government identified in this notice for each product or service will be required to procure the services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the services to the Government.

2. If approved, the action will result in authorizing small entities to furnish the services to the Government.

3. There are no known regulatory alternatives which would accomplish the objectives of the Javits-Wagner-O'Day Act (41 U.S.C. 46-48c) in connection with the services proposed for addition to the Procurement List.

Comments on this certification are invited. Commenters should identify the statement(s) underlying the certification on which they are providing additional information.

End of Certification

The following services are proposed for addition to Procurement List for production by the nonprofit agencies listed:

Services

Service Type/Location: Custodial Services,5A NYC Terminal Market,USDA, AMS F&V Division, Bronx, New York.

NPA: The Corporate Source, Inc., New York, New York.

Contracting Activity: USDA, Animal & Plant Health Inspection Service, Minneapolis, MN.

Service Type/Location: Document Destruction, Internal Revenue Service,NISH, Vienna, VA (PRIME CONTRACTOR).

Performance to be allocated to the Nonprofit Agencies identified at the following locations: 2945 Rodeo Park Drive, East, Santa Fe, New Mexico.

NPA: Adelante Development Center, Inc., Albuquerque, New Mexico.

330 N. Brand Boulevard, Glendale, California.

6377 Riverside Avenue, #110, Riverside, California.

NPA: Goodwill Industries of Southern California, Los Angeles, California.

Contracting Activity: U.S. Treasury, IRS, San Francisco, California.

Deletions

Regulatory Flexibility Act Certification

I certify that the following action will not have a significant impact on a substantial number of small entities. The major factors considered for this certification were:

1. If approved, the action may result in additional reporting, recordkeeping or other compliance requirements for small entities.

2. If approved, the action may result in authorizing small entities to furnish the services to the Government.

3. There are no known regulatory alternatives which would accomplish the objectives of the Javits-Wagner-O'Day Act (41 U.S.C. 46-48c) in connection with the services proposed for deletion from the Procurement List.

End of Certification

The following services are proposed for deletion from the Procurement List:

Services

Service Type/Location: Base Supply Center,Roosevelt Roads Naval Station,Building 1207, Ceiba, Puerto Rico.

NPA: Winston-Salem Industries for the Blind, Winston-Salem, North Carolina.

Contracting Activity: Department of the Navy.

Service Type/Location: Office Supply Center, Richard Bolling Federal Building,601 East 12th Street, Kansas City, Missouri.

NPA: Alphapointe Association for the Blind, Kansas City, Missouri.

Contracting Activity: U.S. Army Corps of Engineers, Kansas City, Missouri.

Service Type/Location: Office Supply Store, Defense Supply Service—Washington,Army Material Command, Alexandria, Virginia.

NPA: Virginia Industries for the Blind, Charlottesville, Virginia.

Contracting Activity: Defense Supply Service, Washington DC.

Service Type/Location: Office Supply Store, Department of Energy, 80300 Century Blvd, Germantown, Maryland.

NPA: Winston-Salem Industries for the Blind, Winston-Salem, North Carolina.

Contracting Activity: Department of Energy, Washington, DC.

Service Type/Location: Office Supply Store, Department of Housing and Urban Development,Robert A. Young Building,1222 Spruce Street, St. Louis, Missouri.

NPA: Alphapointe Association for the Blind, Kansas City, Missouri.

Contracting Activity: U.S. Department of Housing and Urban Development, St. Louis, Missouri.

Sheryl D. Kennerly,
Director, Information Management.

[FR Doc. E6-4292 Filed 3-23-06; 8:45 am]

BILLING CODE 6353-01-P